ENVIRONMENTAL PROTECTION AGENCY

[ER-FRL-6694-8]

Environmental Impacts Statements; Notice of Availability

Responsible Agency: Office of Federal Activities, General Information (202) 564-7167 or http://www.epa.gov/compliance/nepa/.

Weekly receipt of Environmental Impact Statements

Filed 12/31/2007 through 01/04/2008

Pursuant to 40 CFR 1506.9.

EIS No. 20070560, Second Final Supplement, NOA, 00, Bottomfish and Seamount Groundfish Fisheries of the Western Pacific Region, Amendment 14 to the Fishery Management Plan, Additional Information to Analyze a Range of Management Alternatives to End Bottomfish Overfishing in the Hawaiian Archipelago, HI, GU and AS, Wait Period Ends: 02/15/2008, Contact: William L Robinson, 808-944-2200.

EIS No. 20080000, Final EIS, FHW, WA, Southeast Issaquah Bypass Construction, Updated Information, New North/South Arterial Connecting Front Street with I-90 at the Sunset Interchange, Right-of-Way Permit, NPDES Permit and COE Section 404 Permit, King County, WA, Wait Period Ends: 02/11/2008, Contact: Pete Jilek, 360-753-9551.

EIS No. 20080001, Final EIS, COE, TX, Brazos Harbor Navigation District Project, Proposed Port Freeport Channel Widening to the Entrance and Jetty Reach of the Freeport Harbor Jetty Channel and Entrance, Brazoria County, TX, Wait Period Ends: 02/11/2008, Contact: Sam Watson, 409-766-3946.

EIS No. 20080002, Draft EIS, BLM, CA, Sunrise Powerlink Transmission Line Project, Proposed Land Use Plan Amendment, Construction and Operation of a New 91-mile 500 kilovolt (kV) Electric Transmission Line from Imperial Valley Substation (in Imperial Co. near the City of El Centro) to a New Central East Substation (in Central San Diego Co), Imperial and San Diego Counties, CA, Comment Period Ends: 04/11/2008, Contact: Lynda Kastoll, 760-337-4421.

EIS No. 20080003, Final EIS, AFS, WA, Old Curlew Ranger Station Facilities Disposal Project, Proposal to Sell 3-Acre Parcel Including Buildings, Republic Ranger District, Colville National Forest, South Side of Curlew, Ferry County, WA, Wait Period Ends: 02/11/2008, Contact: James L. Parker, 509-775-7462.

EIS No. 20080004, Draft EIS, NSA, 00, PROGRAMMATIC—EIS—Complex Transformation, to Make the US Nuclear Weapon Complex Smaller, and More Responsive, Efficient and Secure in Order to Meet National Security Requirements, CA, NV, NM, SC, TN and TX, Comment Period Ends: 04/09/2008, Contact: Theodore A. Wyka, 1-800-832-0885, Ext 63519.

EIS No. 20080005, Final EIS, NRS, 00, West Tarkio Creek Watershed Plan, Construction of a Multiple-Purpose Structure for Rural Water Supply, Recreational Opportunities and Agricultural Pollution Control, Page, Montgomery and Fremont Counties, IA and Atchison County, MO, Wait Period Ends: 02/11/2008, Contact: David Beck, 515-284-4135.

EIS No. 20080006, Draft EIS, FHW, NE, Nebraska Highway 35 (N-35) Corridor, to Improve 66-mile from Norfolk to South Sioux City, Funding, Madison, Stanton, Wayne, Dixon, Dakota Counties, NE, Comment Period Ends: 02/25/2008, Contact: John Snowdon, 402-437-5975.

EIS No. 20080007, Final EIS, STA, 00, Keystone Oil Pipeline Project, Proposed Construction, Connection, Operation and Maintenance, Applicant for Presidential Permit, ND, SD, NE, KS, MO, IL and OK, Wait Period Ends: 02/11/2008, Contact: Elizabeth Orlando, 202-647-4284.

Amended Notices

EIS No. 20070529, Draft EIS, NCP, DC, Smithsonian Institution National Museum of African American History and Culture, Construction and Operation, Between 14th and 15th Streets, NW., and Constitution Avenue, NW., and Madison Drive, NW., Washington, DC, Comment Period Ends: 02/18/2008, Contact: Gene Keller, 202-482-7251.

Revision of FR Notice Published 12/21/2007: Extending Comment Period from 02/04/2008 to 02/18/2008.

EIS No. 20070534, Draft EIS, AFS, ID, Idaho Roadless Area Conservation Project, to Provide State-Specific Direction for the Conservation and Management of Inventoried Roadless Areas, National Forest System Lands in Idaho, Comment Period Ends: 04/07/2008, Contact: Brad Gilbert, 208-765-7438.

Revision to FR Notice Published 12/21/2007: Extending Comment Period from 03/13/2008 to 04/07/2008.

EIS No. 20070541, Draft Supplement, NOA, AK, Cook Inlet Beluga Whale Subsistence Harvest Project, Proposes to Implement a Long-Term Harvest Plan and Fulfill the Federal Government's Trust Responsibility, Cook Inlet, AK, Comment Period Ends: 03/04/2008, Contact: Barbara Mahoney, 907-271-3448.

Revision of FR Notice Published 12/28/2007: Correction to Comment Period from 02/11/2008 to 03/04/2008.

EIS No. 20070545, Draft EIS, IBR, ND, Northwest Area Water Supply Project, to Construct a Biota Water Treatment Plant, Lake Sakakawea, Missouri River Basin to Hudson Bay Basin, ND, Comment Period Ends: 02/26/2008, Contact: Alice Waters, 701-221-1206.

Revision of FR Notice Published 12/28/2007: Correction to Comment Period from 02/11/2008 to 02/26/2008.

Dated: January 8, 2008.
Robert W. Hargrove,
Director, NEPA Compliance Division, Office of Federal Activities.

[FR Doc. E8-358 Filed 1-10-08; 8:45 am]

BILLING CODE 6560-50-P